DEPARTMENT OF HEALTH AND HUMAN SERVICES

Centers for Disease Control and Prevention

[30Day-20-0765]

Agency Forms Undergoing Paperwork Reduction Act Review

In accordance with the Paperwork Reduction Act of 1995, the Centers for Disease Control and Prevention (CDC) has submitted the information collection request titled Fellowship Management System to the Office of Management and Budget (OMB) for review and approval. CDC previously published a “Proposed Data Collection Submitted for Public Comment and Recommendations” notice on August 23, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Fellowship Management System (OMB Control No. 0920-0765, Exp. 01/31/2021)—Revision—Center for Surveillance, Epidemiology and Laboratory Services (CSELS), Centers for Disease Control and Prevention (CDC).

Background and Brief Description

CDC requests OMB approval to revise a currently approved information collection (Fellowship Management System, OMB Control No. 0920-0765, Exp. 1/31/2021). The Fellowship Management System (FMS) is managed by the Division of Scientific Education and Professional Development (DSEPD) in the Center for Surveillance, Epidemiology, and Laboratory Services (CSELS). DSEPD's mission is to improve health outcomes by supporting the development of a competent, sustainable, and empowered public health workforce. Professionals in public health, epidemiology, medicine, economics, information science, veterinary medicine, nursing, public policy, and other related professionals seek opportunities through CDC fellowships to broaden their knowledge and skills. CDC fellows are assigned to state, tribal, local, and territorial public health agencies; federal government agencies, including CDC and Department of Health and Human Services' (HHS) operational divisions, such as Centers for Medicare & Medicaid Services; and to nongovernmental organizations, including academic institutions, tribal organizations, and private, public health organizations.

The FMS is a robust, flexible, web-based data management system that allows CDC to electronically collect and process fellowship applications, host site assignment proposals, and fellowship alumni information from nonfederal persons. FMS also supports and monitors ongoing fellowship activities and compliance with fellowship requirements. Eight CDC programs currently use FMS to manage fellowship opportunities: (1) The Epidemic Intelligence Service (EIS), (2) the Epidemiology Elective Program (EEP), (3) the CDC Steven M. Teutsch Prevention Effectiveness (PE) Fellowship, (4) the Public Health Associate Program (PHAP), (5) the Public Health Informatics Fellowship Program (PHIFP), (6) the Science Ambassador Fellowship (SAF), (7) the Preventive Medicine Residency and Fellowship (PMR/F), and (8) the Population Health Training in Place Program (PH-TIPP).

CDC plans to implement the following changes to the FMS:

I. Information collection will be migrated to a modernized, state-of-the-art electronic platform that will be easier to update, improve data security, reduce respondent burden, and reduce maintenance and operating costs. The updated platform will also facilitate data analysis for program improvement and evaluation.

II. A new FMS module will support the collection of standardized information about applicants' performance, skills, expertise, and work experience. Standardized references have been shown to provide more accurate and useful information for participant selection than non-standardized approaches. References for fellowship applicants may be submitted by former professors, supervisors, mentors, and others. These individuals represent a new category of respondents for the FMS.

III. A new FMS module will support activity tracking of fellows' work experience, and field supervisors will have the ability to contribute to fellows' learning assessments within FMS. The new features will enhance the ability of program staff to monitor fellows' learning outcomes, ensure that fellows achieve expected competencies, and supplement program evaluation efforts.

IV. CDC will increase the estimated number of applicants using FMS as a result of increased overall demand for fellowship opportunities and the addition of three programs: the CDC E-learning Institute (ELI), the Laboratory Leadership Service (LLS), and Future Leaders in Infectious and Global Health Threats (FLIGHT). However, burden per response and total applicant burden will decrease due to more efficient system navigation.

V. CDC will increase the estimated the number of host sites that submit fellowship assignment proposals. The updated FMS platform will provide nonfederal host sites the ability to select the applicants within FMS, thus enhancing the utility of the system.

VI. The FMS Alumni Directory will be enhanced with new surveys and questions. The enhanced data collection will better describe the career progression and leadership roles that fellows assume post-fellowship, and provide insights into how graduates apply the skills they acquired during their fellowships. CDC is increasing the estimated number of respondents, burden per response, and total burden for the FMS Alumni Directory.

There are no changes to the information collection for the subset of fellowship applicants who are invited to participate in the annual Interview Day. The proposed changes will contribute significant enhancements and provide CDC with an efficient, effective, and secure electronic mechanism for submissions, reviews, selections, and matching processes for fellowship information.

The last approval for this ICR was for 4,656 burden hours and the request for this revision is 4,881 annualized burden hours, a net increase of 225 annualized burden hours. OMB approval is requested for three years. OMB approval is requested no later than April 1, 2020, to enable use of the enhanced FMS for the 2020 cycle of EIS fellowships. Participation in FMS information collection is voluntary and there is no cost to respondents other than their time.

Estimated Annualized Burden Hours
Type of respondents | Form name | Number of respondents | Number of responses per respondent | Average burden per response (in hours)
Fellowship Applicants | FMS Application Module | 2,216 | 1 | 1
Reference Letter Writers | FMS Application Module | 4,412 | 1 | 15/60
Subset of FMS Fellowship Applicants | FMS Application Module | 200 | 1 | 30/60
Fellowship Alumni | FMS Alumni Directory | 1,732 | 1 | 25/60
Public Health Agency or Organization Staff | FMS Activity Tracking Module | 350 | 2 | 25/60
Public Health Agency or Organization Staff | FMS Host Site Module | 448 | 1 | 1

Jeffrey M. Zirger,
Lead, Information Collection Review Office, Office of Scientific Integrity, Office of Science, Centers for Disease Control and Prevention.

[FR Doc. 2020-01859 Filed 1-30-20; 8:45 am]

BILLING CODE 4163-18-P